FARM CREDIT ADMINISTRATION

Privacy Act of 1974; Altering a System of Records

AGENCY: Farm Credit Administration.

ACTION: Notice of altering a system of records maintained on individuals; request for comments.

SUMMARY: Pursuant to the provisions of the Privacy Act of 1974, as amended (5 U.S.C. 552a), notice is hereby given that the Farm Credit Administration (FCA) is publishing an amended system notice pertaining to financial management records. The system notice provides information on the existence and character of the system of records. This amended system notice reflects minor changes, which clearly identify the types of Agency records maintained in this system, the purposes for this system of records, and the sources of information.

DATES: Written comments should be received by December 8, 2005. This notice will become effective without further publication on December 23, 2005, unless modified by a subsequent notice to incorporate comments received from the public.

ADDRESSES: Mail written comments to Debra Buccolo, Privacy Act Officer, Farm Credit Administration, McLean, Virginia 22102-5090. You may send comments by e-mail to buccolod@fca.gov. Copies of all communications received will be available for examination by interested parties in the offices of the FCA.

FOR FURTHER INFORMATION CONTACT:

Debra Buccolo, Privacy Act Officer, Farm Credit Administration, McLean, Virginia 22102-5090, (703) 883-4022, TTY (703) 883-4020, or

Jane Virga, Office of General Counsel, Farm Credit Administration, McLean, Virginia, 22102-5090, (703) 883-4071, TTY (703) 883-4020.

SUPPLEMENTARY INFORMATION: This publication satisfies the requirement of the Privacy Act of 1974 that an agency publish a system notice in the Federal Register when there is a revision, change, or addition to the system of records. The FCA did not file a System Report with Congress and the Office of Management and Budget because the changes were minor. There were no significant changes to this system of records. The amended system notice reflects minor changes, which clearly identify the types of Agency records maintained in this system, the purposes for this system of records, and the sources of information.

The amended system of records is: FCA-2, Financial Management Records. The notice is published in its entirety below.

FCA-2

SYSTEM NAME:

Financial Management Records—FCA.

SECURITY CLASSIFICATION:

None.

SYSTEM LOCATION:

Farm Credit Administration, 1501 Farm Credit Drive, McLean, VA 22102-5090 and field offices listed in Appendix A.

CATEGORIES OF INDIVIDUALS COVERED BY THE SYSTEM:

Current and former FCA employees and persons that provide or may provide supplies or services to FCA by contract or purchase order.

CATEGORIES OF RECORDS IN THE SYSTEM:

This system contains paper files and a computerized database supporting the FCA financial management system, including: Employee travel advance records; travel vouchers; vendor vouchers and purchase orders; requisitions; FCA administrative expenses; collections; purchase, travel, and fleet credit cards; and other pertinent written information related to financial records and purchase transactions. Also included are bids, offers, and lease agreements.

AUTHORITY FOR MAINTENANCE OF THE SYSTEM:

12 U.S.C. 2243, 2252; 40 U.S.C. 471 et seq.

PURPOSE(S):

We use information in this system of records to provide records of reimbursement to and collections from employees for expenses incurred while in official travel status, to provide payments to vendors and other Government agencies, to maintain control over the collection and disbursement of Agency funds and to limit the opportunity for fraud, to prepare reports for management and other Government agencies, to obtain necessary information for the issuance and payment of credit cards, and to assist in any audits of purchases of supplies and services.

ROUTINE USES OF RECORDS MAINTAINED IN THE SYSTEM, INCLUDING CATEGORIES OF USERS AND THE PURPOSES OF SUCH USES:

See the “General Statement of Routine Uses.”

DISCLOSURE TO CONSUMER REPORTING AGENCIES:

None.

POLICIES AND PRACTICES FOR STORING, RETRIEVING, ACCESSING, RETAINING, AND DISPOSING OF RECORDS IN THE SYSTEM:

STORAGE:

We maintain records in file folders or on a computerized database.

RETRIEVABILITY:

We arrange file folders by: (1) SF 1166a (Voucher and Schedule of Payments) voucher number within each year, (2) employee name, (3) purchase order number or contract number, or (4) name of the vendor. We retrieve information on the computerized database by employee name, vendor number, or Social Security Number, as applicable.

SAFEGUARDS:

We maintain file folders in a cabinet in an area that is secured after business hours. Only authorized personnel have access to the computerized database.

RETENTION AND DISPOSAL:

In accordance with National Archives and Records Administration General Records Schedule requirements for financial records and procurement records.

SYSTEM MANAGER(S) AND ADDRESS:

Director, Office of Management Services, Farm Credit Administration, 1501 Farm Credit Drive, McLean, VA 22102-5090.

NOTIFICATION PROCEDURE:

Address inquiries about this system of records to: Privacy Act Officer, Farm Credit Administration, 1501 Farm Credit Drive, McLean, VA 22102-5090.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

RECORD SOURCE CATEGORIES:

Information in this system of records comes from: (1) The individual to whom the record applies; (2) persons, corporations, or governmental entities that make bids or offers to FCA or enter into leases or other agreements with FCA; (3) credit reporting agencies, and (4) FCA employees who prepare or audit contractual actions.

EXEMPTIONS CLAIMED FOR THE SYSTEM:

None.

Dated: November 1, 2005.
Jeanette C. Brinkley,
Secretary, Farm Credit Administration Board.

[FR Doc. 05-22083 Filed 11-7-05; 8:45 am]

BILLING CODE 6705-01-P